DEPARTMENT OF STATE

[Public Notice 6833]

Review of Unused Presidential Permit: Mission (Texas) International Bridge

SUMMARY: More than 30 years ago, the Department of State issued to the City of Mission, Texas, a Presidential permit for an international rail and vehicular bridge. To date, the permit remains unused. The Department and other federal agencies are currently evaluating whether to revoke, modify, or retain as written this long-unused permit given the change of circumstances in the project area, development of nearby projects, inaction by the permittee, and apparent lack of interest in pursuing the corresponding projects in Mexico. The review is not a judgment regarding either the need for a new bridge or the merits of Mission's plan, but rather represents a recognition that the project for which this permit was issued has gone unimplemented longer than similar projects and, due to the passage of time, may no longer be viable. The City of Mission provided a project status update, which is included in the SUPPLEMENTARY INFORMATION section below.

DATES: Interested members of the public are invited to submit written comments regarding this permit review on or before February 8, 2010 to Mr. Stewart Tuttle, U.S.-Mexico Border Affairs Coordinator, via e-mail at WHA-BorderAffairs@state.gov, or by mail at WHA/MEX—Room 3909, Department of State, 2201 C St., NW., Washington, DC 20520.

FOR FURTHER INFORMATION CONTACT: Mr. Stewart Tuttle, U.S.-Mexico Border Affairs Coordinator, via e-mail at WHA-BorderAffairs@state.gov; by phone at 202-647-9894; or by mail at Office of Mexican Affairs—Room 3909, Department of State, 2201 C St., NW., Washington, DC 20520. Information about Presidential permits is available at http://www.state.gov/p/wha/rt/permit/.

SUPPLEMENTARY INFORMATION: Executive Order 11423 of August 16, 1968, as amended, authorizes the Secretary of State to issue Presidential permits for the construction, connection, operation, and maintenance of facilities crossing the international borders of the United States, including, but not limited to, bridges and pipelines connecting the United States with Canada or Mexico. In order to issue a Presidential permit, the Secretary or her delegate must find that a border crossing is in the U.S. national interest. Within the context of appropriate border security, safety, health, and environmental requirements, it is in the U.S. national interest to facilitate the efficient movement of legitimate goods and travelers across U.S. borders.

Since 1968, the Department has issued 21 Presidential permits for non-pipeline border crossings on the U.S.-Mexico border and one for the U.S.-Canada border. Of the 21 U.S.-Mexican border projects that have received permits, most began construction within two to five years. The Presidential permit process, which emphasizes interagency and binational coordination, is designed to ensure that border crossings are built if, and only if, there is clear local, binational, and interagency support for the project and construction is in the U.S. national interest. It is not in the U.S. national interest to commit scarce government resources (e.g., Customs and Border Protection inspectors, highway improvement funds, etc.) as well as private resources (e.g., land, capital, etc.) for border crossing projects that cannot be successfully implemented within a reasonable time period. While the Department may find a project to be in the U.S. national interest under a certain set of circumstances, those circumstances may change over time so that, five or ten years later, the Department may conclude that the project is no longer in the national interest or the relevant agencies may reconsider their recommendations on the Department's initial grant of the permit. The border region is dynamic and fast-changing and it is important that an outdated permit not be used to build a border crossing on a site that is no longer appropriate due to the passage of time (e.g., due to changes in transportation patterns, development patterns, etc.). At the same time, the Department recognizes that, by their nature, border crossing projects are complex, time consuming, and subject to political, financial, regulatory, and logistical setbacks.

In this review, the Department of State seeks public input on whether to revoke, modify, or retain as written the Presidential permit that it issued in 1978 to the City of Mission, Texas, for an international rail and vehicular bridge. Interested members of the public are invited to submit written comments, as set forth above.

The following is the text of a letter that the City of Mission submitted on November 2, 2009, to the Department, providing its initial input to this review process.

Begin text.

My letter today is in response to a teleconference held on October 20 between yourself and persons representing various interests of the City of Mission concerning the status update, requested by the Department of State on the Presidential Permit issued to the City of Mission in 1978 for the construction of an international vehicular and railroad bridge.

Our City has actively pursued over the last several years progress on the Mission International Bridge. We have built partnerships with stakeholders, pursued funding options, and identified future strategies. Following is a summary of the recent activities we have undertaken:

• Developed and submitted a Congressional Appropriations Request for a study to support the Railroad Bridge Project.

• A Project Engineer—L&G Engineers of Mercedes to conduct a feasibility study for the rail bridge has been identified.

• The Governor of Tamp., the city officials of Reynosa, Tamp, and Ramiro Garza Cantu, Owner of Grupo San Juan, have been contacted. These entities will be submitting letters of support within the next thirty days. We will forward them as soon as we receive them.

• Hidalgo County Officials as well as the County's Railroad District have been contacted and are supporting the Rail Project. In fact the County Railroad District has plans for additional Rail Systems within and outside the County to support the project. Public and private local and regional entities will also be submitting letters of support for this project.

• City Officials along with the Mission Economic Development Corporation have met with the Kansas City Rail Systems in Kansas City to discuss not only the new Railroad Bridge in Mission but also the North-South Rail running out of the Valley and connecting with the Kansas City System owned by the Texas-Mexico Railways.

The local international port of entry projects currently in process include the Anzalduas International Bridge and the Donna International Bridge. The Anzalduas Bridge is scheduled to open in December 2009 for vehicular traffic and the Donna International Bridge Project is still under construction with a yet to be defined completion date. It is important to note that neither bridge has a railroad bridge permit and that in fact Mission Bridge is the only permitted Railroad Bridge from Brownsville to Laredo and beyond. It is critical to the continued economic growth of South Texas including in particular Cameron, Hidalgo, and Starr Counties and the U.S. economy as a whole to have railroad access for the transport of goods across the Mexico-Texas border. It is also important to alleviate congestion at the Texas Mexico Railroad Bridge in Laredo and the B&M Rail Bridge in Brownsville.

Our City as mentioned above has contacted Eugenio Hernandez Flores, Governor of the State of Tamaulipas, the city officials of Reynosa, Tamp., as well as Ramiro Garza Cantu, Owner of Grupo San Juan, a business conglomerate that deals with urban development, industrial parks, agriculture, cattle and energy businesses. Grupo San Juan presently owns 16,000 acres across the Mission Permitted Crossing Site. They have all expressed interest. These entities have all shown support for the Mission Railroad Bridge Project. These entities will be submitting letters of support within the next thirty days. We will forward them as soon as we receive them.

The Governor is interested in a new rail connection for the State of Tamaulipas and is aware of the potential of the Madero site. Mr. Garza Cantu and I have visited on numerous occasions about the potential of connecting rail to his existing and sizeable industrial parks, which are home to a large number of maquiladoras employing thousands in Reynosa. The Anzalduas International Bridge, which does not allow rail, empties into Mr. Garza Cantu's Villa Florida Industrial Park, but he recognizes that any rail that may connect to the U.S. side would need to be coordinated with our Mission/Madero permitted site. The Mission/Madero site affords both vehicular and rail capacity as a possibility for the continued growth of his master plan and the west side of Reynosa.

As I enter my twelfth year of service as Mayor of the City of Mission, I take satisfaction in knowing that the Anzalduas crossing will soon be open and my attention is again focused on a Mission International Bridge which was my top priority as I began my tenure as Mayor in 1998. With the dynamic growth in our region both in the United States and Mexico, I am confident that the Mission/Madero permitted site continues to be in the interest of both countries.

Respectfully, Norberto “Beto” Salinas, Mayor.

Dated: December 4, 2009.
Alex Lee,
Director, Office of Mexican Affairs, Department of State.

[FR Doc. E9-29344 Filed 12-8-09; 8:45 am]

BILLING CODE 4710-29-P